FEDERAL COMMUNICATIONS COMMISSION

Sunshine Act Meeting; Open Commission Meeting, Thursday, November 8, 2001

November 1, 2001.

The Federal Communications Commission will hold an Open Meeting on the subjects listed below on Thursday, November 8, 2001, which is scheduled to commence at 9:30 a.m. in Room TW-C305, at 445 12th Street, SW., Washington, DC.

Item No. | Bureau | Subject
1 | Wireless Telecommunications | Title: 2000 Biennial Regulatory Review Spectrum Aggregation Limits for Commercial Mobile Radio Services (WT Docket No. 01-14).
|  | Summary: The Commission will consider a Report and Order concerning its reexamination of the need for the Commercial Mobile Radio Services spectrum aggregation limits and the cellular cross-interest rule.
2 | Mass Media | Title: Rules and Policies Concerning Multiple Ownership of Radio Broadcast Stations in Local Markets; and Definition of Radio Markets (MM Docket No. 00-244).
|  | Summary: The Commission will consider a Notice of Proposed Rule Making concerning whether to undertake a comprehensive examination of its rules and policies of local radio ownership.
3 | Mass Media | Title: Review of the Commission's Rules and Policies Affecting the Conversion To Digital Television (MM Docket No. 00-39).
|  | Summary: The Commission will consider a Memorandum Opinion and Order on Reconsideration concerning its periodic review of the progress of the conversion to digital television.
4 | Common Carrier | Title: Performance Measurements and Standards for Unbundled Network Elements and Interconnection; Performance Measurements and Reporting Requirements for Operations Support Systems, Interconnection, and Operator Services and Directory Assistance (CC Docket No. 98-56); Deployment of Wireline Services Offering Advanced Telecommunications Capability (CC Docket No. 98-147); and Petition of Association for Local Telecommunications Services for Declaratory Ruling (CC Docket Nos. 98-147, 96-98, 98-141).
|  | Summary: The Commission will consider a Notice of Proposed Rule Making concerning the establishment of national performance measurements and standards for unbundled network elements and interconnection.
5 | International | Title: Review of Commission Consideration of Applications under the Cable Landing License Act (IB Docket No. 00-106).
|  | Summary: The Commission will consider a Report and Order concerning its policies, rules and requirements for Cable Landing Licenses.

Additional information concerning this meeting may be obtained from Maureen Peratino or David Fiske, Office of Media Relations, telephone number (202) 418-0500; TTY 1-888-835-5322.

Copies of materials adopted at this meeting can be purchased from the FCC's duplicating contractor, Qualex International at (202) 863-2893; Fax (202) 863-2898; TTY (202) 863-2897. These copies are available in paper format and alternative media, including large print/type; digital disk; and audio tape. Qualex International may be reached by e-mail at qualexint@aol.com.

This meeting can be viewed over George Mason University's Capital Connection. The Capitol Connection also will carry the meeting live via the Internet. For information on these services call (703) 993-3100. The audio portion of the meeting will be broadcast live on the Internet via the FCC's Internet audio broadcast page at <http://www.fcc.gov/realaudio/>. The meeting can also be heard via telephone, for a fee, from National Narrowcast Network, telephone (202) 966-2211 or fax (202) 966-1770. Audio and video tapes of this meeting can be purchased from Infocus, 341 Victory Drive, Herndon, VA 20170, telephone (703) 834-0100; fax number (703) 834-0111.

Federal Communications Commission.
Magalie Roman Salas,
Secretary.

[FR Doc. 01-28008 Filed 11-2-01; 2:58 pm]

BILLING CODE 6712-01-M